ENVIRONMENTAL PROTECTION AGENCY

[EPA-R09-OAR-2010-0836; FRL-9228-8]

Notice of Prevention of Significant Deterioration Applicability Determination for the Carlsbad Energy Center Project, Carlsbad, CA

AGENCY: Environmental Protection Agency (EPA).

ACTION: Notice of Final Action.

SUMMARY: This notice announces that on October 13, 2010, the EPA issued a determination that the proposal to modify the Encina Power Station is not subject to the Prevention of Significant Deterioration (PSD) permit program under the Clean Air Act (CAA). This modification is for constructing the Carlsbad Energy Center Project, a proposed natural gas-fired power plant, at the existing Encina Power Station in the city of Carlsbad in San Diego County, California. EPA reviewed applicability for the criteria pollutants expected to be affected by the modification, including nitrogen oxides, carbon monoxide, particulates, volatile organic compounds, and sulfur oxides.

ADDRESSES: EPA's determination and other related documents used in the determination are available electronically on EPA's Web site at http://www.epa.gov/region9/air/permit/r9-permits-issued.html. These documents are also available for public inspection during normal business hours at the following address: EPA Region 9, 75 Hawthorne Street, San Francisco, California 94105. For more information or to arrange viewing of these documents, contact Shaheerah Kelly at (415) 947-4156 or kelly.shaheerah@epa.gov.

FOR FURTHER INFORMATION CONTACT: Shaheerah Kelly, EPA Region 9, Air Division (AIR-3), 75 Hawthorne Street, San Francisco, CA 94105, (415) 947-4156, kelly.shaheerah@epa.gov.

SUPPLEMENTARY INFORMATION: The Carlsbad Energy Center Project is a proposed 540 MW net (558 MW gross) combined cycle natural gas-fired power plant that will be built at the existing Encina Power Station in the city of Carlsbad in San Diego County, California. The Carlsbad Energy Center Project will replace three of five existing natural gas-fired boilers located at the eastern end of the property site at the Encina Power Station. The Encina Power Station is owned by NRG Energy, Inc. (NRG), and currently has a total of five natural gas-fired boilers, which are allowed to use No. 6 fuel oil during curtailments, and three fuel oil storage tanks. The Encina Power Station is an existing major source, and the addition of the Carlsbad Energy Center Project would be physical change to the facility.

EPA Region 9 has authority to implement the Clean Air Act Prevention of Significant Deterioration Program at 40 CFR section 52.21 for San Diego County, California. Because the Carlsbad Energy Center Project is a physical change to an existing major stationary source, EPA Region 9 evaluated whether the physical change is a major modification by determining whether the physical change will result in a net emission increase for pollutants regulated under the PSD permit program. We received emissions information from NRG on June 5, 2009, as well as additional information since that time. This emissions information addressed the following criteria pollutants associated with the modification: Nitrogen oxides, carbon monoxide, particulates, volatile organic compounds, and sulfur oxides. Based on our review, we have determined that the Carlsbad Energy Center Project will not cause or result in a significant net emissions increase for these pollutants, and will, therefore, not be subject to the PSD permit requirements.

If available, judicial review of EPA's determination may be sought by filing a petition for review pursuant to section 307(b)(1) of the CAA in the United States Court of Appeals for the Ninth Circuit within 60 days from the date on which this notice is published in the Federal Register.

Dated: November 9, 2010.
Elizabeth Adams,
Acting Director, Air Division, Region 9.

[FR Doc. 2010-29222 Filed 11-18-10; 8:45 am]

BILLING CODE 6560-50-P